DEPARTMENT OF COMMERCE

International Trade Administration

[A-580-867]

Large Power Transformers From the Republic of Korea: Preliminary Results and Rescission, in Part, of Antidumping Duty Administrative Review, 2022-2023

AGENCY: Enforcement and Compliance, International Trade Administration, Department of Commerce.

SUMMARY: The U.S. Department of Commerce (Commerce) preliminarily finds that Iljin Electric Co., Ltd. (Iljin), and non-individually examined companies for which a review was requested, made sales of large power transformers from the Republic of Korea (Korea) at prices below normal value (NV) during the period of review (POR) of August 1, 2022, through July 31, 2023. Commerce also preliminarily finds that HD Hyundai Electric Co., Ltd. (Hyundai) did not make sales of large power transformers from Korea at prices below NV during the POR. Additionally, Commerce is rescinding this administrative review, in part, with respect Hyosung Heavy Industries Corporation (Hyosung) because Hyosung had no entries of subject merchandise during the POR. We invite interested parties to comment on these preliminary results.

DATES: Applicable September 13, 2024.

FOR FURTHER INFORMATION CONTACT: John Drury at (202) 482-0195 or Jinny Ahn at (202) 482-0339, AD/CVD Operations, Office VI, Enforcement and Compliance, International Trade Administration, U.S. Department of Commerce, 1401 Constitution Avenue NW, Washington, DC 20230.

SUPPLEMENTARY INFORMATION:

Background

Commerce published the antidumping duty order on large power transformers on August 31, 2012.¹ Commerce provided an opportunity to request an administrative review on August 2, 2023.² On August 31, 2023, we received requests to conduct an administrative review from Iljin,³ Hyundai,⁴ and Hitachi Energy USA, Inc. and Prolec-GE Waukesha, Inc. (the petitioners).⁵ Commerce initiated this review on October 18, 2023.⁶ We selected two mandatory respondents in this review, Hyundai and Iljin. For a more detailed description of the events that followed the initiation of this review, see the Preliminary Decision Memorandum.⁷

¹ See Large Power Transformers from the Republic of Korea: Antidumping Duty Order, 77 FR 53177 (August 31, 2012) (Order).

² See Antidumping or Countervailing Duty Order, Finding, or Suspended Investigation; Opportunity to Request Administrative Review, 88 FR 50840, (August 2, 2023).

³ See Iljin's Letter, “Request for Administrative Review,” dated August 31, 2023.

⁴ See Hyundai's Letter, “Administrative Review Request,” dated August 31, 2023.

⁵ See Petitioners' Letter, “Request for Administrative Review,” dated August 31, 2023.

⁶ See Initiation of Antidumping and Countervailing Duty Administrative Reviews, 88 FR 71829, 71831 (October 18, 2023) (Initiation Notice).

⁷ See Memorandum, “Decision Memorandum for Preliminary Results of Antidumping Duty Administrative Review of Large Power Transformers from the Republic of Korea; 2022-2023,” dated concurrently with, and hereby adopted by, this notice (Preliminary Decision Memorandum).

Scope of the Order

The scope of this Order covers large liquid dielectric power transformers having a top power handling capacity greater than or equal to 60,000 kilovolt amperes (60 megavolt amperes), whether assembled or unassembled, complete or incomplete.⁸

⁸ The full text of the scope of the Order is contained in Preliminary Decision Memorandum.

Partial Rescission of Review

Pursuant to 19 CFR 351.213(d)(3), it is Commerce's practice to rescind an administrative review of an antidumping duty order when there are no reviewable entries of subject merchandise during the POR for which liquidation is suspended.⁹ Normally, upon completion of an administrative review, the suspended entries are liquidated at the antidumping duty assessment rate calculated for the review period.¹⁰ Therefore, for an administrative review to be conducted, there must be at least one reviewable, suspended entry that Commerce can instruct CBP to liquidate at the antidumping duty assessment rate calculated for the review period.¹¹ There were no entries of subject merchandise during the POR for Hyosung.¹² As a result, on August 22, 2024, Commerce notified all interested parties of its intent to rescind this review, in part, with respect to Hyosung and received no comments.¹³ Therefore, we are rescinding this administrative review with respect to Hyosung. The administrative review remains active with respect to the three other companies upon which we initiated this review.

⁹ See, e.g., Dioctyl Terephthalate from the Republic of Korea: Rescission of Antidumping Administrative Review; 2021-2022, 88 FR 24758 (April 24, 2023); see also Certain Carbon and Alloy Steel Cut-to-Length Plate from the Federal Republic of Germany: Recission of Antidumping Administrative Review; 2020-2021, 88 FR 4157 (January 24, 2023).

¹⁰ See 19 CFR 351.212(b)(1).

¹¹ See 19 CFR 351.213(d)(3).

¹² See Memorandum, “Release of U.S. Customs and Border Protection Import Data,” dated November 14, 2023.

¹³ See Memorandum, “Notice of Intent To Rescind Review, In Part,” dated August 22, 2024.

Methodology

Commerce is conducting this review in accordance with section 751(a)(2) of the Tariff Act of 1930, as amended (the Act). For a full description of the methodology underlying our conclusions, see the Preliminary Decision Memorandum. A list of the topics discussed in the Preliminary Decision Memorandum is included as the appendix to this notice. The Preliminary Decision Memorandum is a public document and is made available to the public via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Rate for Non-Selected Respondents

The statute and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted average dumping margins established for exporters and producers individually investigated, excluding any zero or de minimis margins, and any margins determined entirely {on the basis of facts available}.” In this review, only one mandatory respondent (i.e., Iljin) has received a weighted-average dumping margin which is not that did not get a rate that is zero, de minims, or determined entirely on the basis of facts available. Accordingly, we have applied the rate calculated for Iljin, 10.61 percent, to the non-selected companies.

Preliminary Results of Review

We preliminarily determine the following estimated weighted-average dumping margins exist during the period August 1, 2022, through July 31, 2023:

Producer/exporter | Weighted- average dumping margin (percent)
HD Hyundai Electric Co., Ltd | 0.00
Iljin Electric Co., Ltd.¹⁴ | 10.61
LS Electric Co., Ltd | 10.61

Disclosure and Public Comment

¹⁴ For the first administrative review of the Order, Commerce initiated the administrative review on multiple companies, including Iljin Electric Co., Ltd. and ILJIN. See Initiation of Antidumping and Countervailing Duty Administrative Reviews and Request for Revocation in Part, 78 FR 60834, 60836 (October 2, 2013). Commerce did not select either ILJIN or Iljin Electric Co., Ltd. for individual examination, but did assign margins for both entities. See Large Power Transformers from the Republic of Korea: Amended Final Results of Antidumping Duty Administrative Review; 2012-2013, 80 FR 26001 (May 6, 2015). The current administrative review is the first review in which either Iljin Electric Co., Ltd. or ILJIN was selected for individual examination. Record evidence indicates that Iljin Electric Co., Ltd. is the only entity in Korea with the Iljin name that produces LPTs. See Iljin's Letter, “Response to the Department's March 29 Supplemental Questionnaire,” dated April 26, 2024 (Iljin SAQR), at page 2. Therefore, we preliminarily find that ILJIN and Iljin Electric Co., Ltd. are the same entity. Parties are invited to comment for the final results.

Commerce intends to disclose its calculations and analysis performed to interested parties for these preliminary results within five days of any public announcement or, if there is no public announcement, within five days of the date of publication of this notice in accordance with 19 CFR 351.224(b).

Pursuant to 19 CFR 351.309(c), interested parties may submit case briefs or other written comments to the Assistant Secretary for Enforcement and Compliance no later than 30 days after the date of publication of this notice. Rebuttal briefs, limited to issues raised in the case briefs, may be filed not later than five days after the date for filing case briefs.¹⁵ Interested parties who submit case briefs or rebuttal briefs in this proceeding must submit: (1) a table of contents listing each issue; and (2) a table of authorities.¹⁶

¹⁵ See 19 CFR 351.309(d); see also Administrative Protective Order, Service, and Other Procedures in Antidumping and Countervailing Duty Proceedings, 88 FR 67069, 67077 (September 29, 2023) (APO and Service Final Rule).

¹⁶ See 19 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹⁷ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).¹⁸

¹⁷ We use the term “issue” here to describe an argument that Commerce would normally address in a comment of the Issues and Decision Memorandum.

¹⁸ See APO and Service Final Rule.

Pursuant to 19 CFR 351.310(c), interested parties who wish to request a hearing must submit a written request to the Assistant Secretary for Enforcement and Compliance, filed electronically via ACCESS. Requests should contain: (1) the party's name, address, and telephone number; (2) the number of participants; and (3) a list of issues to be discussed. Issues raised in the hearing will be limited to those raised in the respective case briefs. An electronically filed hearing request must be received successfully in its entirety by Commerce's electronic records system, ACCESS, by 5 p.m. Eastern Time within 30 days after the date of publication of this notice.

Assessment Rates

Upon issuing the final results, Commerce shall determine, and CBP shall assess, antidumping duties on all appropriate entries. For any individually examined respondent whose weighted-average dumping margin is not zero or de minimis (i.e., less than 0.5 percent) in the final results of this review and the respondent reported entered values, we will calculate importer-specific ad valorem assessment rates for the merchandise based on the ratio of the total amount of dumping calculated for the examined sales made during the POR to each importer and the total entered value of those same sales, in accordance with 19 CFR 351.212(b)(1). If the respondent has not reported entered values, we will calculate a per unit assessment rate for each importer by dividing the total amount of dumping calculated for the examined sales made to that importer by the total quantity associated with those transactions. Where an importer-specific ad valorem assessment rate is zero or de minimis in the final results of review, we will instruct CBP to liquidate the appropriate entries without regard to antidumping duties in accordance with 19 CFR 351.106(c)(2). If a respondent's weighted-average dumping margin is zero or de minimis in the final results of review, we will instruct CBP not to assess duties on any of its entries in accordance with the Final Modification for Reviews, i.e., “{w}here the weighted-average margin of dumping for the exporter is determined to be zero or de minimis, no antidumping duties will be assessed.” ¹⁹

¹⁹ See Antidumping Proceedings: Calculation of the Weighted-Average Dumping Margin and Assessment Rate in Certain Antidumping Proceedings; Final Modification, 77 FR 8101, 8103 (February 14, 2012) (Final Modification for Reviews).

In accordance with Commerce's “automatic assessment” practice,²⁰ for entries of subject merchandise during the review period produced by each respondent for which it did not know its merchandise was destined for the United States, we will instruct CBP to liquidate unreviewed entries at the all-others rate of 22.00 percent established in the investigation.²¹

²⁰ See Antidumping and Countervailing Duty Proceedings: Assessment of Antidumping Duties, 68 FR 23954 (May 6, 2003).

²¹ See Large Power Transformers from the Republic of Korea: Final Determination of Sales at Less Than Fair Value, 77 FR 40857 (July 11, 2012).

For the company which was not selected for individual review (i.e., LS Electric Co., Ltd.), we will assign an assessment rate based on the weighted average of the estimated dumping margins established for companies selected for mandatory review, excluding any zero and de minimis margins, and any margins determined based entirely on facts available.²² The final results of this review shall be the basis for the assessment of antidumping duties on entries of merchandise covered by the final results of this review and for future deposits of estimated duties, where applicable.²³

²² See section 735(c)(5)(A) of the Act; see also Preliminary Decision Memorandum at Section VIII, “Rate for Non-Selected Companies.

²³ See section 751(a)(2)(C) of the Act.

With respect to the company for which we have rescinded this review in part (i.e., Hyosung), Commerce intends to instruct CBP to assess antidumping duties on all appropriate entries at rates equal to the cash deposit rate of estimated antidumping duties required at the time of entry, or withdrawal from warehouse, for consumption, during the POR, in accordance with 19 CFR 351.212(c)(1)(i). Commerce intends to issue these rescission instructions to CBP no earlier than 35 days after the date of publication of this notice in the Federal Register.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication). The final results of this administrative review shall be the basis for the assessment of antidumping duties on entries of merchandise under review and for future cash deposits of estimated antidumping duties, where applicable.

Cash Deposit Requirements

The following cash deposit requirements will be effective upon publication of the final results of this administrative review for all shipments of the subject merchandise entered, or withdrawn from warehouse, for consumption on or after the publication date of the final results of this administrative review, as provided by section 751(a)(2)(C) of the Act: (1) the cash deposit rate for Iljin, Hyundai and other companies listed above will be equal to the weighted-average dumping margin established in the final results of this administrative review; (2) for previously reviewed or investigated companies not listed above, the cash deposit rate will continue to be the company-specific rate published for the most recently completed segment of this proceeding in which they were reviewed; (3) if the exporter is not a firm covered in this review, a prior review, or in the investigation but the producer is, the cash deposit rate will be the rate established for the most recently completed segment of this proceeding for the producer of the merchandise; and (4) the cash deposit rate for all other producers or exporters will continue to be the all-others rate of 22.00 percent, the rate established in the investigation of this proceeding.²⁴ These cash deposit requirements, when imposed, shall remain in effect until further notice.

²⁴ See Large Power Transformers from the Republic of Korea: Antidumping Duty Order, 77 FR 53177 (August 31, 2012).

Final Results of the Review

Unless the deadline is otherwise extended, Commerce intends to issue the final results of this administrative review, including the results of its analysis of issues raised by interested parties in the written briefs, no later than 120 days after the date of publication of this notice in the Federal Register, pursuant to section 751(a)(3)(A) of the Act and 19 CFR 351.213(h)(1).

Notification to Importers

This notice serves as a preliminary reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of countervailing duties.

Notification to Interested Parties

Commerce is issuing and publishing this notice in accordance with sections 751(a)(1) and 777(i)(1) of the Act, 19 CFR 351.213(h)(2), and 19 CFR 351.221(b)(4).

Dated: September 6, 2024.
Abdelali Elouaradia,
Deputy Assistant Secretary for Enforcement and Compliance.

Appendix

List of Topics Discussed in the Preliminary Decision Memorandum

I. Summary

II. Background

III. Deadline for Submission of Updated Sales and Cost Information

IV. Scope of the Order

V. Rescission of Review in Part

VI. Rate for Non-Selected Companies

VII. Discussion of the Methodology

VIII. Currency Conversion

IX. Recommendation

[FR Doc. 2024-20797 Filed 9-12-24; 8:45 am]

BILLING CODE 3510-DS-P